ENVIRONMENTAL PROTECTION AGENCY

[FRL-8024-7]

Indian General Assistance Program 2006 Grants Administration Guidance

AGENCY: Environmental Protection Agency (EPA).

ACTION: Notice of Guidance Issuance.

SUMMARY: EPA is issuing guidance, entitled “Indian General Assistance Program (GAP) 2006 Grant Administration Guidance.” The guidance summarizes the issues and procedures required to ensure compliance with current grant policies and regulations. It addresses the following areas: GAP allocation; notification letters; work plan and reporting templates; environmental results; GAP national set-asides; solid waste implementation priorities; and GAP tracking electronic data entry. The “GAP 2006 Grants Administration Guidance” does not replace the “2000 Guidelines on the Award and Management of General Assistance Agreements for Indian Tribes.”

DATES: This guidance is effective upon publication in the Federal Register.

ADDRESSES: This guidance with appendices may be viewed and downloaded from EPA's homepage at http://www.epa.gov/Indian/pdfs/gap2006.pdf.

FOR FURTHER INFORMATION CONTACT: Rodges Ankrah, American Indian Environmental Office, Mail Code 4104M, Environmental Protection Agency, 1200 Pennsylvania Avenue, NW., Washington, DC 20460 telephone number: (202) 564-0280; fax number: (202) 564-0298; e-mail address: ankrah.rodges@epa.gov.

SUPPLEMENTARY INFORMATION:

Background and Purpose

In 1992, Congress passed the Indian Environmental General Assistance Program Act (42 U.S.C. 4368b) which authorizes EPA to provide General Assistance Program (GAP) grants to federally-recognized Tribes and tribal consortia for planning, developing, and establishing environmental protection programs in Indian Country, as well as for developing and implementing solid and hazardous waste programs on tribal lands. The goal of this program is to assist Tribes in developing the capacity to manage their own environmental protection programs, and to develop and implement solid and hazardous waste programs in accordance with individual tribal needs and applicable Federal laws and regulations.

EPA's assistance agreement practices and procedures have been under heightened scrutiny from the U.S. Congress, Government Accountability Office (GAO), and EPA's Office of Inspector General (OIG). This scrutiny has centered on grantee selection, oversight, accountability, and environmental results. In response, the Office of Grants and Debarment (OGD) has moved aggressively to implement its long-term Grants Management Plan. This is highlighted by the fact that OGD has recently issued three new grants policies that address competition, pre-award review of non-profit organizations, and environmental results.

The American Indian Environmental Office (AIEO) is proactively responding to the scrutiny by taking a much larger role in ensuring compliance with grant policies, accountability for environmental results, and consistency with program requirements. In furtherance of this, AIEO is issuing this grant administration guidance for the Indian General Assistance Program (GAP) that addresses the following:

1. GAP Allocation.

2. Notification Letters.

3. Work plan and Reporting Templates.

4. Environmental Results.

5. GAP National Set-Asides.

6. Solid Waste Implementation Priorities.

7. GAP Tracking Electronic Data Entry.

This guidance does not replace the “2000 Guidelines On the Award and Management of General Assistance Agreements for Indian Tribes.” Instead, the grant administration guidance is intended to summarize the issues and procedures required to ensure compliance with current grant policies and regulations. This guidance will remain in effect until withdrawn or superseded.

1. GAP Allocation

The GAP provides annual grant funding to federally recognized Tribes and Intertribal consortia through an allocation process administered for each EPA Region. The grant funds may be used by tribes to plan and carry out any number of capacity-building activities including the education and outreach; development of administrative procedures; quality assurance/quality control systems; sampling and laboratory capabilities; baseline environmental assessments; enforcement programs; legal procedures; communications plans; computer information systems; and staff qualifications and expertise. GAP may not be used for the ongoing implementation of media-specific environmental programs once established, except as otherwise provided. Funding is provided per applicable rules and procedures. AIEO is establishing additional measures to ensure national consistency, such as conducting a self-assessment of GAP as part of the Agency's continuing efforts to improve oversight of grant management activities, as well as reviews of Regional program operations.

As the National Program Manager for GAP, AIEO is responsible for distribution of the national GAP funds to the EPA Regional Offices. AIEO distributes the funds using a formula that considers the tribal land base, number of tribes, and tribal population in each Region. Each year AIEO will issue a decision memorandum on the distribution of GAP funds to the Regions by January 31st.

For FY 2006, EPA has $57.5 million for Regional allocations of GAP funds. This is a $4.5 million reduction from FY 2005. This amount does not reflect any Agency reductions that may be forthcoming.

2. Notification Letters

The GAP program is currently exempt from competition under sections 6(c)1 and 2 of EPA's Policy for Competition of Assistance Agreements (EPA Order 5700.5A1). AIEO has determined that competition is not practicable because of the need to provide a clear and stable source of base funding for program development and capacity building across Indian country consistent with the primary statutory purpose of the program.

Consistent with Federal policy, a primary mission of EPA is to work with federally-recognized tribal governments to protect the environment and public health in Indian Country. Goal 5.3 of EPA's current Strategic Plan provides that by 2008 the goal is to increase tribes' ability to develop environmental program capacity by ensuring that 100% of federally recognized tribes have access to an environmental presence.¹ AIEO has determined that this goal can best be met by distributing funding consistent with the guidelines below.

¹ EPA is currently preparing its fourth strategic plan under Government Performance and Results Act (GPRA). GPRA requires Federal agencies to revise their strategic plans every 3 years. EPA's Strategic Plan outlines our mission, establishes our goals and objectives, and describes the means and strategies we will employ to reach our goals and achieve results.

AIEO has developed the following funding allocation guidelines to assist Regional Tribal Programs in making their funding decisions beginning in FY 2006. The guidelines are to be incorporated into the information materials developed by each Region.

• Consistent with the GAP statute and regulations, eligible recipients will be able to receive at least $75,000 for their first fiscal year. Funding amounts for the following fiscal years is determined by each Region.

• Each Region will send a letter to eligible tribes informing them that they may qualify for a base amount of funding with the final funding amount dependent upon the results of the work plan negotiations. Scheduling deadlines for negotiations and decision-making are established by each Region.

• Each Region can emphasize those funding factors that are most appropriate for their Region during the work plan negotiations. Where the recipient has Tier III Tribal EPA Agreement (TEA), these may be used a basis for making funding decisions. Funding decisions should be made with a focus on producing the most outcome based improvements to human health and the environment in Indian country. The funding decisions should also be consistent with the allocation approach among eligible recipients selected by the Region.

• In any funding materials distributed, please refrain from using the following terms or others like them that may create the impression that the GAP funds are being awarded “competitively”:

○ Request for Proposals.

○ Solicitations.

○ Ranking criteria.

Given the purposes of the GAP to build individual tribal capacity, EPA may evaluate proposals based on, among other things, capacity of applicant, past grant performance, work plan progress, and expected human health and environmental results. Regions should not use any allocation factors which have the effect of measuring the relative quality or merit of one work plan against the other, or that focus on the skill of the applicant.

3. Work Plan and Reporting Templates

Strong and effective grant management is critical to our success in accomplishing the goals of GAP. The GAP work plan is the basis for the management and evaluation of performance under the grant agreement. The “Office of Water 2005 Grants Management Self-Assessment Report” has identified that there was inconsistent documentation of cost reviews and documentation of environmental results in the work plans. AIEO has addressed this by developing a template that will consistently include milestones, deliverables, link to the Agency's Strategic Plan, and environmental outcomes and outputs in the grant work plans. This work plan and reporting template, presented in Exhibit 3.1 and 3.2, is to be used by tribal governments and intertribal consortia applying for GAP funds. For FY 2006, we strongly recommend the Regions to use this format. The template will be the required format for FY 2007.

While it is not required by 40 CFR part 35, subpart B to include estimated costs in the work plan, AIEO strongly recommends that grantees include estimated costs and that the estimated costs be linked to the task and anticipated output. This encourages cost accountability, effective grant management, and is consistent with Governmental Accounting Standards Board (GASB) no. 34 accounting pronouncements that are supported by the Native American Finance Officers Association.

For purposes of tracking how GAP funds are being used by grantees, the Regions and grantees are required to categorize the range of activities into the following categories:

Legal: Activities are to develop legal and enforcement infrastructure, i.e., codes, regulations, ordinances, and standards that can be used to implement management policies and guidelines.

Enforcement and Compliance: Activities demonstrate the ability to perform the inventories, monitoring, and inspection needed to ensure compliance with environmental policies and guidelines.

Technical and Non-Administrative: Activities develop technical skills for environmental management such as monitoring and analysis, baseline assessment, data management, quality assurance procedures, and emergency response systems.

Communications: Activities demonstrate the ability to communicate about environmental issues with the community, tribal executives, the regulated community, and other government entities.

Administrative: Activities establish the ability and procedures for managing and accounting for program funds, including procedures for staffing and training, management of office resources and personnel, and communication with other tribal government agencies.

Solid and Hazardous Waste: Activities may include, but are not limited to removal of abandoned vehicles, scrap metals and used tires, planning and conducting household hazardous waste cleanups, establishing recycling collection areas and support facilities, and open dump cleanups.

Additionally, Regions should provide the relevant goal, objective and subobjective for the above activities using EPA's Strategic Plan located at http://www.epa.gov/ocfo/plan/plan.htm.

Exhibit 3.1.—Example Work Plan and Reporting Template
Estimated Cost: $27,000: Tasks | Estimated Cost: $27,000: Primary capacity area | Estimated Work Years: .20: Estimated cost | Estimated Work Years: .20: Time frame | Estimated Work Years: .20: Outputs
Work Plan Objective 1: Build capacity to implement a tribal solid waste program
Environmental Outcome:
—Reduce exposure to illegal dump sites in the tribal community
—Increase knowledge & understanding of illegal dump impacts by community members
1.1 Select two illegal dump sites for remediation | Enforcement & Compliance | $2,000 | Quarter 1 | Site selection reports; tribal government approval of site selection.
1.2 Select contractors and develop, approve and sign contracts | Administrative | 15,000 | Quarter 1 | Signed contract.
1.3 Oversee the remediation of the dump sites | Administrative | 1,000 | Quarter 3 | Records of site visits and final remediation report.
1.4 Install fence and post “no dumping” signs at the former illegal dump site | Solid Waste Implementation | 5,000 | Quarter 3 | Fences; signs.
1.5 Hold one community meeting to demonstrate the impacts illegal dumps have on the community | Communications | 2,000 | Quarter 4 | Pre and post meeting surveys to demonstrate change in knowledge.
1.6 Municipal Waste Facility Operator Training/Certification for tribal employee | Technical (non-administrative) | 2,000 | Quarter 4 | Certified landfill operator.
EPA Use Only
2003-2008 EPA Strategic Plan
Goal 3: Land Preservation and Restoration
Objective 3.1: Preserve Land
Sub-objective 3.1.1: Reduce Waste Generation and Increase Recycling.

Estimated cost: $19,000: Tasks | Estimated cost: $19,000: Primary capacity area | Estimated work years: 20: Estimated cost | Estimated work years: 20: Time frame | Estimated work years: 20: Outputs
Work Plan Objective 2: Develop solid waste management codes
Environmental Outcome:
—Reduce number of illegal dumping activities.
—Improved compliance with integrated waste management plan
2.1 Seek and obtain information from EPA solid waste personnel and other regional tribes regarding Solid Waste Codes | Legal | $3,000 | Quarter 1 | Trip reports; meeting minutes; SW Code template
2.2 Write draft Solid Waste Codes that reflect the needs and desires of the tribe | Legal | 6,000 | Quarter 2 | Draft SW Code.
2.3 Retain an attorney/consultant to review the draft SW Codes | Legal | 9,000 | Quarter 3 | Contract/Agreement with attorney/consultant.
2.4 Submit draft SW Codes to EPA for comments and meet with EPA as needed to understand any issues EPA raises | Legal | 1,000 | Quarter 4 | Revised Draft SW Code.
EPA Use Only
2003-2008 EPA Strategic Plan
Goal 5: Compliance and Environmental Stewardship
Objective 5.1: Improve Compliance
Sub-objective 5.1.3: Monitoring and Enforcement

Exhibit 3.2.—Example Work Plan Report
Estimated costs: $25,000: Tasks | Estimated work years: 20: Est. cost | Estimated work years: 20: Actual cost | Estimated work years: 20: Time frame | Estimated work years: 20: Status | Estimated work years: 20: Outputs | Estimated work years: 20: Comments Note: Explanatory comments are required for any task listed as “Not complete.”
Work Plan Objective 1: Build capacity to implement a tribal solid waste program
Environmental Outcome:
—Reduce number of illegal dump sites in the tribal community
—Increase knowledge & understanding of illegal dump impacts by community members
1.1 Select two illegal dump sites for remediation | $2,000 | $1,500 | Quarter 1 | Complete | Signed site selection reports | Use this space for descriptions of activities to accomplish the task. This narrative field can have as much detail as grantee & project officer agree is necessary.
1.2 Select contractors and develop, approve and sign contracts | 15,000 | 10,000 | Quarter 1 | Complete | Signed contract | Example: “Three contractors submitted proposals for our review: (1) Remediation, Inc.; (2) Cleanup, Inc.; and (3) Land Like New, Inc. A team of tribal employees and an independent third party technical expert reviewed and ranked each proposal (see Attachment X). Remediation, Inc. received the most favorable review and was selected as our contractor. The contract was negotiated and signed on May 12 (see Attachment Y).”
1.3 Oversee the remediation of the dump sites | 1,000 |  | Quarter 3 | On track | Records of site visits and final remediation report |
1.4 Hold one community meeting to demonstrate the impacts illegal dumps have on the community | 2,000 |  | Quarter 4 | On track | Pre and post meeting surveys
1.5 Municipal Waste Facility Operator Training/Certification for tribal employee | 2,000 |  | Quarter 4 | Not complete | Certified landfill operator | Example: “Employee scheduled to receive training left the program. New employee will not be in place for tribal employee until next fiscal year.”
EPA Use Only
2003-2008 EPA Strategic Plan
Goal 3: Land Preservation and Restoration
Objective 3.1: Preserve Land
Sub-objective 3.1.1: Reduce Waste Generation and Increase Recycling.

4. Environmental Results

A. Environmental Outputs, Outcomes and Milestones

The U.S. Congress, the EPA Office of Inspector General (IG), and the Office of Management and Budget (OMB) have raised concerns about the lack of clarity or documentation showing how EPA grant funds have been spent or are expected to be spent, and the lack of evidence that EPA grants produce environmental results. In response, EPA issued the Environmental Results Order 5700.7 that went into effect on January 1, 2005. It is now required that EPA Program Offices ensure that recipient work plans contain well-defined outputs and, to the maximum extent practicable, well-defined environmental outcomes that help measure tribal successes toward achieving GAP goals.

Tracking environmental results is important for a number of reasons. It allows EPA and tribes to discuss alterations to the GAP program, such as addressing the need for a bridge between program development and implementation. It also demonstrates the effectiveness of resource investments in terms of public health and environmental improvement in Indian country. Additional benefits include promoting good grant management by tying in the goals in EPA's Strategy Plan with actual environmental results.

The templates, presented in Exhibit 4.1 and 4.2, provide examples of environmental outputs and outcomes both for programmatic and administrative capabilities. It demonstrates the linkage to the Agency's goals, objectives, sub-objectives, annual Program Activity Measures (PAMs) and provides samples of outputs and outcomes. The Regions should ensure that EPA can clearly identify environmental outputs and outcomes in the work plan format and contents. The Regions should also ensure that the outputs and outcomes are linked to EPA's Strategic Plan. AIEO will continue working with the Regions to develop additional measures that accurately reflect the spectrum of environmental results across media programs. AIEO expects to begin reporting programmatic environmental outcome measures by FY 2007.

The Environmental Results Order defines output and outcome as follows:

Outcome: The result, effect or consequence that will occur from carrying out an environmental program or activity that is related to an environmental or programmatic goal or objective. Outcomes may be environmental, behavioral, health-related or programmatic in nature, must be quantitative, and may not necessarily be achievable within an assistance agreement funding period.

Output: An environmental activity, effort, and/or associated work products related to an environmental goal or objective that will be produced or provided over a period of time or by a specified date. Outputs may be quantitative or qualitative but must be measurable during an assistance agreement funding period.

Exhibit 4.1.—GAP Programmatic Environmental Results Sheet
Grant Program: Indian Environmental General Assistance Program
CFDA: 66.926
GOAL 5: COMPLIANCE AND ENVIRONMENTAL STEWARDSHIP
Improve environmental performance through compliance with environmental requirements, preventing pollution, and promoting environmental stewardship. Protect human health and the environment by encouraging innovation and providing incentives for government, businesses and the public that promote environmental stewardship.
Strategic Plan Objective 5.3: Build Tribal Capacity—Through 2008, assist all federally recognized tribes in assessing the condition of their environment, help in building their capacity to implement environmental programs where needed to improve tribal health and environments, and implement programs in Indian country where needed to address environmental issues.
Note: Project Officers are responsible for ensuring that work plans contain, to the maximum extent practicable, well-defined outputs and outcomes. The following outputs/outcomes are options for grantees and Project Officers to consider including in their work plans to comply with the Environmental Results Order.
National Reportable Outputs/Outcomes for GAP:
❑ By 2008, increase tribes' ability to develop environmental program capacity by ensuring that 100% of federally recognized tribes have access to an environmental presence.
❑ By 2008, increase the number of EPA-approved quality assurance plans for tribal environmental monitoring and assessment activities.
❑ By 2008, increase by 50% the number of EPA agreements with tribes that reflect holistic program integration and traditional use of natural resources.

Examples of Programmatic GAP Outputs and Outcomes
Example Outputs
❑ Number of approved grants or cooperative agreements.
❑ Number of staff hired or retained.
❑ Number of QAPPs filed.
❑ Number of stream miles assessed for ambient stream conditions.
❑ Survey of contamination sources.
❑ Number of environmental ordinance proposals to Council.
Example Outcomes that Demonstrate Changes in Awareness, Attitudes or Knowledge
❑ Achievement of operator certification.
❑ Successful completion of training program.
❑ Completed exit surveys or reports from public education sessions.
❑ Establishment of job descriptions.
❑ Accurate location of contamination sources.
❑ Demonstrated increase in knowledge of bio-assessment protocols.
❑ Number of environmental ordinances passed by Council.
Example Outcomes that Demonstrate Changes in Behavior
❑ Number of projects [insert range] initiating operation, resulting in improved public health protection.
❑ Number of cross-agency agreements signed.
❑ Number of environmental ordinances passed by Council.
Example Outcomes that Demonstrate Changes in the Environment or Public Health
❑ Reduction in population exposed to drinking water that is not in compliance with health-based standards.
❑ Increase in population with access to approved solid waste disposal.
❑ Reduction in detection of PM10 contaminants.

Exhibit 4.2.—GAP Administrative Environmental Results Sheet
Grant Program: Indian Environmental General Assistance Program
CFDA: 66.926
GOAL 5: COMPLIANCE AND ENVIRONMENTAL STEWARDSHIP
Improve environmental performance through compliance with environmental requirements, preventing pollution, and promoting environmental stewardship. Protect human health and the environment by encouraging innovation and providing incentives for government, businesses and the public that promote environmental stewardship.
Strategic Plan Objective 5.3: Build Tribal Capacity—Through 2008, assist all federally recognized tribes in assessing the condition of their environment, help in building their capacity to implement environmental programs where needed to improve tribal health and environments, and implement programs in Indian country where needed to address environmental issues.
Note: Project Officers are responsible for ensuring that work plans contain, to the maximum extent practicable, well-defined outputs and outcomes. The following outputs/outcomes are options for grantees and Project Officers to consider including in their work plans to comply with the Environmental Results Order.
National Reportable Outputs/Outcomes for GAP:
❑ By 2008, increase tribes' ability to develop environmental program capacity by ensuring that 100% of federally recognized tribes have access to an environmental presence.
❑ By 2008, increase the number of EPA-approved quality assurance plans for tribal environmental monitoring and assessment activities.
❑ By 2008, increase by 50% the number of EPA agreements with tribes that reflect holistic program integration and traditional use of natural resources.

Examples of Administrative GAP Outputs and Outcomes
Example Outputs
❑ Number of staff hired.
❑ Number of staff supervised.
❑ Number of items of equipment authorized to be purchased (if purchased under an U.S. EPA grant, identify the grant number).
❑ Number and name of grant deliverables reviewed (if under an U.S. EPA grant, identify the grant number).
❑ Number of grants closed out (if U.S. agreement, identify the grant number).
❑ Number of briefings that were provided to tribal officials on environmental issues.
❑ Number permitting procedures implemented as well as the relevant Federal Agency.
❑ Attendance at quarterly state Tribal Environmental Committee meeting.
❑ Number of environmental issues and/or policies staff reviewed, analyzed and provided comments.
❑ Develop/update EPA/Tribal Environmental Agreement.
❑ Administer QAMPs and/or QAPPs.
❑ Conduct long and/or short range environmental and/or natural resources management planning.
❑ Number of environmental databases developed or enhanced.
❑ Attendance at the Regional General Assistance Program Conference.
Example Outcomes that Demonstrate Changes in Awareness, Attitudes or Knowledge
❑ Increase in number of certified staff in the environmental departments.
❑ Completion and maintenance of standard operating procedures for departmental functions.
Example Outcomes That Demonstrate Changes in Behavior
❑ Annual audit contains no major environmental program or administrative findings.
❑ Number of environmental ordinances passed by Council.
❑ Documented annual environmental improvements which are a direct result of grant work plan implementation.

Sequential Examples
Activity—Trainings, Conferences and Workshops
❑ Output—Number of trainings and/or workshops attended; number of conferences coordinated.
❑ Outcome—Demonstrated change in knowledge and/or behavior (i.e. operation and maintenance practices established, best management practices implemented, etc.) due to training and/or workshop, as demonstrated by an exit survey or examination.
Activity—Outreach and Education
❑ Output—Number/type of outreach conducted (i.e. trainings, workshops, conferences, stakeholder meetings etc.).
❑ Outcome—Establishment of staff position(s) to provide outreach and education (i.e. watershed coordinator, PWSS circuit rider, etc.)
❑ Outcome—Demonstrated change in behavior (i.e. operation and maintenance practices established, best management practices (structural or non-structural implemented, etc.) attributed to the outreach and/or education.

B. GAP Logic Model

AIEO is conducting a program evaluation of the GAP program. The purpose of the evaluation is to assess: (1) The impact of GAP on tribal environmental capacity to help AIEO understand which elements of GAP contribute to the establishment of multi-media environmental programs and (2) the impact and relevance of the program on Section 5.3 of EPA's Strategic Plan.

To illustrate the various components of the GAP for the program evaluation, AIEO has developed a logic model, a graphical representation of the relationships between program inputs, outputs, and intended outcomes, presented in Appendix 1 at http://www.epa.gov/Indian/pdfs/gap2006.pdf. This is a tool that can be used by the Regions in identifying outcomes and outputs related to GAP goals. Key components of the logic model include the following:

• Resources are the basic inputs of funds, staffing, and knowledge dedicated to the program.

• Activities/Outputs are the specific actions taken by EPA to achieve program goals and the immediate products that result. Under the GAP, these products include grant funds, technical assistance, training, and grant oversight.

• Customers are the users of the activities and outputs (fiscal, technical, administrative) provided. They are the tribal governments that receive GAP grants and the environmental employees hired with GAP funds.

• Short-Term Outcomes are changes in awareness, attitudes, knowledge, and behavior resulting from program outputs. Technical and grant management training opportunities provided to tribal environmental employees through the GAP increase understanding of the processes required in developing a tribal environmental program. Note that outcomes listed in italics are intended as illustrative examples of the effects of tribes increased understanding of the process required in the development of a tribal environmental program.

• Intermediate Outcomes are broader in scope than short-term outcomes and often build upon the progress achieved in the short-term. Under the GAP, changes in tribal awareness and understanding pave the way for planning, development, and initiation of capacity-building activities. The logic model includes examples of activities that represent increased capability in the legal, enforcement, technical, communications, and administrative arenas. Note that outcomes listed in italics are intended as illustrative examples of the effects of tribes increased legal, enforcement, technical, communications, and administrative capability.

• Long-Term Outcomes parallel the overarching goals of the program and are the environmental improvements and public health benefits that flow from the behavioral, procedural, and operational changes.

• Contextual/External Variables are factors, not directly controlled by the program or its entities, which may affect program performance. For example, changes in tribal policy and budgetary priorities may influence the ability of tribes to sustain environmental efforts.

5. GAP National Set-Asides

The GAP National Set-Aside is a specific portion of the overall GAP appropriation that is “set aside” to support specific tribal or tribal consortia projects, as directed by AIEO. The projects must have a national application or address a national program need identified by AIEO. Each year AIEO will issue a decision memorandum on the distribution of GAP set-aside funds to the Regions by January 31st.

AIEO is working with the Office of Solid Waste on potential use of limited GAP set-aside funds in FY 2006.

The National Set-Aside Funded Project Areas for FY 2006 are as follows:

A. Financial Management Training

The American Indian Environmental Office (“AIEO”) will continue to provide funding to the Regions for targeted training to tribal financial managers on EPA financial assistance agreements. As before, the training must be targeted to train tribal staff directly responsible for financial management of EPA funds, although tribal environmental staff is encouraged to attend scheduled trainings. The training must take place during FY 2006. Regions can tailor their training to meet the unique needs of their tribes, and where possible may take advantage of existing training opportunities and venues.

The available funding is limited. Proposals should include the number of tribes expected to participate, the proposed methodology, and the approach to be used to ensure maximum participation by financial management staff. Regional proposals should be signed off on by the Regional Grants Management Officers.

AIEO will review the Regional proposals and will negotiate the amount of funding to be set-aside for each Region that applies. Key factors AIEO will consider include the number of participants, Regional contribution, and available funding at the time of the request.

Regions will also need to provide short reports documenting the training provided, and providing specific outcome measures (e.g., entrance and exit surveys, training certifications, improved grantee performance, etc.).

B. Incentive Funding for Tier III Tribal EPA Agreements

Tribal EPA Agreements (TEAs) are a valuable tool in EPA's work with tribes to identify and address mutually shared objectives. They are one of the key parameters for the measurement of success of the Tribal program in the EPA Strategic Plan.

In recognition of their importance, and in order to promote greater implementation of this approach, AIEO will be providing supplemental funding to each Region in the amount of $3,000 to $4,000 per approved Tier III TEAs listed in the 5.3 System as of May 30, 2006. The maximum cap per Region is $200,000. This supplemental funding must be for activities fundable under GAP regulations, and must be accounted for in the work plan for the grant.

C. Implementation of Direct Implementation Tribal Cooperative Agreements

Direct Implementation Tribal Cooperative Agreements (DICTAs) is a funding authority enabling EPA to award funds to federally recognized tribes and qualified Intertribal consortia to carry out agreed upon activities to assist EPA with the implementation of federal environmental programs for Indian tribes in the absence of an acceptable tribal program. AIEO has identified the lack of dedicated resources as an impediment to promoting and establishing DICTAs.

For FY 2006, AIEO is providing dedicated funding assistance in the amount of $200,000 for the implementation of DITCAs. AIEO will work to make this funding available in FY 2007 and FY 2008. However, funding availability may change based on Agency-wide needs. The use of these funds will require the additional commitment of funding from other sources that do not include Regional GAP funding.

This support is currently in the proposal stage. The requirements will be provided once finalized.

D. Support Services for the Tribal Caucus of the National Tribal Operations Committee

AIEO will continue to fund support services for the Tribal Caucus of the National Tribal Operations Committee (TOC) through a Policy Advisor. The Policy Advisor provides support in reviewing, analyzing and commenting on issues of policy and practice that are before the Tribal Caucus. The Policy Advisor also provides the Tribal Caucus with meeting facilitation, as well as coordinates communication between EPA managers and staff and members of the Tribal Caucus.

E. Support for the United South and Eastern Tribes Liaison

The Liaison position with United South and Eastern Tribes (USET) provides support to member tribes in assisting tribal capacity building in specific program areas through technical and administrative aid, on-site reviews, and advisory services. The Liaison also provides assistance to member tribes through regulatory analysis and communication.

AIEO support is intended to assist Region 4 in initiating the Liaison program, with the expectation that the other Regions support the continuation of the program to serve USET members in their areas.

F. Discretionary Support for Selected Activities or Conferences

The Director of AIEO will continue to provide support for specific national events and conferences, as appropriate.

G. Scheduling

Financial Management Training: Regional proposals should be submitted no later than December 31, 2005. Training must take place during FY 2006.

Incentive Funding: TEA funding will be reprogrammed to the Region based on the approved Tier III TEAs listed in the 5.3 System as of May 30, 2006.

DITCAs: A schedule will be provided pending final approval of the proposal.

6. Solid Waste Implementation Priorities

The primary purpose of GAP is to support the development of a core tribal environmental program as outlined in Section II A, “Guidelines on the Award and Management of General Assistance Agreements for Indian Tribes” (March 9, 2000). Where Regions can ensure that recipients have put in place the elements of a core environmental protection program, they may approve solid and hazardous waste implementation activities that supplement recipients' environmental management capacity.

When funding solid and hazardous waste activities under GAP, AIEO expects the Regions to implement the following principles and funding priorities for FY 2006.²

²

The funding principles and priorities for solid and hazardous waste implementation activities were derived from Memorandum from the American Indian Environmental Office on Guidance for Implementation of Solid and Hazardous Waste Activities under the Indian General Assistance Program to Regional Indian Coordinators, Regional Solid Waste Program Managers, Office of Solid Waste, OSWER Tribal Coordinator, and National Indian Work Group (June 7, 2001) (on file with AIEO's GAP National Program Manager).

A. Principles

When making funding decisions for solid and hazardous waste implementation activities, the following principles must be addressed:

• The availability of funding.

• The risk of compromising the development of tribal environmental capacity and overall in program effectiveness areas other than solid and hazardous waste management.

• The reasonableness of costs cited for the proposed activities.

• Whether the proposed activities supplement or improperly duplicate activities funded by the Federal Tribal Solid Waste Management Assistance Project (formerly known as the “Tribal Open Dumps Cleanup Project”).

• The proposed activities will have technical review by EPA RCRA regional staff.

• There are no guarantees, either implicit or explicit of future funding for long term projects.

• Higher priority is given to self-sustaining programs, prevention programs and one time cleanups, as environmental outcome based work.

• Use of GAP funding for operations and maintenance activities is given the lowest priority.

B. Priorities

The following are the recommended priorities for use of GAP funding for solid and hazardous waste activities:

1. Expansion for Interagency Coordination

Several Regions have used GAP funds to participate in interagency in efforts to coordinate solid and hazardous waste projects in Indian Country. We encourage those efforts and are supporting similar initiatives at the national level through the Tribal Solid Waste Interagency Work Group, which includes HUD, IHS, BIA, Rural Utility Service, DoD and FAA. AIEO promotes the use of GAP funds in tandem with other (EPA and non-EPA) Agency resources.

2. Targeted Procedures

The unique status of solid and hazardous waste implementation activities under GAP requires different internal Regional procedures than with GAP capacity building activities. Several Regions are developing procedures for working with their Regional solid and hazardous waste counterparts to review and approve implementation activities. We recommend that all Regions establish such procedures.

3. Continued Review of Implementation Costs

Funding implementation activities under GAP continues to represent a new and potentially resource-intensive area of investment. Regional data has greatly assisted EPA in understanding the impact of this new grant flexibility. Several Regions have indicated that they expect an increase in the number and variety of projects.

Each Region should therefore continue to track and report separately on investments in solid and hazardous waste implementation for FY 2006. The information tracked should include name of recipient, a brief description of the project, and the amount of GAP funding allocated to that specific grant activity. Estimated amounts are acceptable, but should be stated as such.

Please contact Rodges Ankrah at ankrah.rodges@epa.gov before March 7, 2006, if you have any question about data collection.

7. GAP Tracking Electronic Data Entry

AIEO is continuing to develop and define the GAP Tracking System to enable EPA to track environmental tribal activities supported by EPA grants. The GAP Tracking System is for program management, a tool that will allow EPA to better manage the GAP program. To avoid duplication of information, the GAP Tracking System will eventually be linked to other grant and financial reporting systems. When the System becomes operational, grantees will be required to use the system in order to receive GAP funding.

The GAP Tracking System is designed to do the following:

• Allow regional officers to access GAP-related records for their region.

• Wherever possible, read data from existing databases that are a part of the larger Tribal Information Management project.

• Allow regional officers to enter and store GAP-related information in a central GAP-specific database.

• Generate common reports for use by EPA regional officers, tribal officials, EPA programs, and the U.S. Congress and OMB.

• Integrate features that will allow the GAP Tracking Tool to be efficient to use.

• Avoid duplication of information into multiple grant and financial reporting systems.

The GAP Tracking System was NOT designed for the following:

• Allow the entry of records into the Tribal Information Management System (TIMS) databases.

• Allow editing information submitted in previous fiscal years.

The screens, located in Appendix 2 at http://www.epa.gov/Indian/pdfs/gap2006.pdf, are a proposed update to the GAP Tracking System. EPA may impose additional requirements to integrate into the current system. Please send your comments on the proposed updates to the GAP Tracking System to Rodges Ankrah at ankrah.rodges@epa.gov by March 7, 2006.

Dated: January 9, 2006.
Benjamin H. Grumbles,
Assistant Administrator for Water.

[FR Doc. 06-1729 Filed 2-23-06; 8:45 am]

BILLING CODE 6560-50-P